DEPARTMENT OF COMMERCE

International Trade Administration

[A-533-824]

Notice of Initiation of Antidumping Duty Changed Circumstances Review: Polyethylene Terephthalate Film, Sheet and Strip (PET Film) from India

AGENCY: Import Administration, International Trade Administration, Department of Commerce.

SUMMARY: In accordance with section 751(b)(1) of the Tariff Act of 1930, as amended (the Act), and 19 CFR 351.216(b), Jindal Poly Films Limited (Jindal Poly Films) requested that the Department of Commerce (the Department) conduct a changed circumstances review of the antidumping duty order on PET film from India. In response to this request, the Department is initiating a changed circumstances review of the antidumping duty order on PET film from India.

EFFECTIVE DATE: September 21, 2004.

FOR FURTHER INFORMATION CONTACT: Howard Smith or Michele Mire, Office of AD/CVD Enforcement, Office 4, Import Administration, International Trade Administration, U.S. Department of Commerce, 14th Street and Constitution Avenue, NW, Washington, DC 20230; telephone (202) 482-5193 or (202) 482-4711, respectively.

SUPPLEMENTARY INFORMATION:

Background

On July 29, 2004, Jindal Poly Films requested that the Department conduct an expedited changed circumstances review of the antidumping duty order on PET film from India pursuant to section 751(b)(1) of the Act and 19 CFR 351.221(c)(3)(ii). Jindal Poly Films claims to be the successor-in-interest to Jindal Polyester Limited (Jindal). Jindal Poly Films furnished a certificate of change of name filed with the office of the registrar of companies in India showing that, effective April 19, 2004, Jindal's corporate name was changed to Jindal Poly Films. See the July 29, 2004, request of Jindal Poly Films at Exhibit 1.

On August 25, 2004, DuPont Teijin Films, Mitsubishi Polyester Film of America and Toray Plastics (America), Inc., the petitioners to this proceeding, notified the Department that they oppose Jindal Poly Films' request that the Department conduct an expedited antidumping duty changed circumstances review. Petitioners' objections are discussed below in the initiation of review section of this notice.

Scope of Review

Imports covered by this review are shipments of PET film from India. The products covered are all gauges of raw, pretreated, or primed PET film, whether extruded or coextruded. Excluded are metallized films and other finished films that have had at least one of their surfaces modified by the application of a performance-enhancing resinous or inorganic layer of more than 0.00001 inches thick. Imports of PET film are currently classifiable in the Harmonized Tariff Schedule of the United States (HTSUS) under item number 3920.62.00. HTSUS subheadings are provided for convenience and customs purposes. The written description of the scope of this order is dispositive.

Initiation of Antidumping Duty Changed Circumstances Review

Pursuant to section 751(b)(1) of the Act, the Department will conduct a changed circumstances review upon receipt of information concerning, or a request from an interested party for a review of, an antidumping or countervailing duty order which shows changed circumstances sufficient to warrant a review of the order. See 19 CFR 351.216(c). The information submitted by Jindal Poly Films regarding a change in the name of Jindal shows changed circumstances sufficient to warrant a review.

In changed circumstances reviews involving a successor-in-interest determination, the Department typically examines several factors including, but not limited to, changes in: (1) management; (2) production facilities; (3) supplier relationships; and (4) customer base. See Brass Sheet and Strip from Canada: Notice of Final Results of Antidumping Administrative Review, 57 FR 20460, 20462 (May 13, 1992) (Canadian Brass). While no single factor or combination of factors will necessarily be dispositive, the Department generally will consider the new company to be the successor to the predecessor company if the resulting operations are essentially the same as those of the predecessor company. See, e.g., Industrial Phosphoric Acid from Israel: Final Results of Changed Circumstances Review, 59 FR 6944, 6945 (February 14, 1994), and Canadian Brass, 57 FR 20460. Thus, if the record evidence demonstrates that, with respect to the production and sale of the subject merchandise, the new company operates as the same business entity as the predecessor company, the Department may assign the new company the cash deposit rate of its predecessor. See, e.g., Fresh and Chilled Atlantic Salmon from Norway: Final Results of Changes Circumstances Antidumping Duty Administrative Review, 64 FR 9979, 9980 (March 1, 1999). Although Jindal Poly Films submitted information indicating that Jindal was renamed Jindal Poly Films, the information is insufficient for the Department to preliminarily determine Jindal Poly Films to be the successor-in-interest to Jindal. Moreover, the petitioners argue that Jindal Poly Films experienced two significant changes in management within three days of the name change, and that it has undertaken an expansion and restructuring of its operations in connection with its acquisition of Rexor. See Petitioners' August 25, 2004, submission at Exhibits 1, 2, and 3. Petitioners also contend that record evidence does not adequately satisfy the Department's criteria it applies when making successor-in-interest determinations.

Concerning Jindal Poly Films' request that the Department conduct an expedited antidumping duty changed circumstances review, the Department has determined that it would be inappropriate to expedite this action by combining the preliminary results of review with this notice of initiation, as permitted under 19 CFR 351.221(c)(3)(ii). Because of the interested parties' differing views and the Department's need for additional information, which we will address in a questionnaire to be issued to Jindal Poly Films, the Department finds that expedited action in this review is impracticable. See 19 CFR 351.216(e) and 19 CFR 351.221(c)(3)(ii). Therefore, the Department is not issuing the preliminary results of its antidumping duty changed circumstances review at this time.

The Department will publish in the Federal Register a notice of preliminary results of antidumping duty changed circumstances review, in accordance with 19 CFR 351.221(b)(4) and 19 CFR 351.221(c)(3)(i). This notice will set forth the factual and legal conclusions upon which our preliminary results are based and a description of any action proposed based on those results. Pursuant to 19 CFR 351.221(b)(4)(ii), interested parties will have an opportunity to comment on the preliminary results of review. In accordance with section 751(b)(4)(B) of the Act and 19 CFR 351.216(e), the Department will issue the final results of its antidumping duty changed circumstances review not later than 270 days after the date on which the review is initiated.

During the course of this antidumping duty changed circumstances review, we will not change the cash deposit requirements for the merchandise subject to review, unless a change is determined to be warranted pursuant to the final results of this review.

This notice of initiation is in accordance with sections 751(b)(1) of the Act and

19 CFR 351.221(b)(1) of the Department's regulations.

Dated: September 10, 2004.
James J. Jochum,
Assistant Secretary for Import Administration.

[FR Doc. E4-2284 Filed 9-20-04; 8:45 am]

BILLING CODE: 3510-DS-P